INTERNATIONAL TRADE COMMISSION

[Investigation No. 731-TA-749 (Second Review)]

Persulfates From China

Determination

On the basis of the record ¹ developed in the subject five-year review, the United States International Trade Commission (Commission) determines, pursuant to section 751(c) of the Tariff Act of 1930 (19 U.S.C. 1675(c)), that revocation of the antidumping duty order on persulfates from China would be likely to lead to continuation or recurrence of material injury to an industry in the United States within a reasonably foreseeable time.

¹ The record is defined in sec. 207.2(f) of the Commission's Rules of Practice and Procedure (19 CFR 207.2(f)).

Background

The Commission instituted this review on November 1, 2007 (72 FR 61907) and determined on February 4, 2008 that it would conduct an expedited review (73 FR 8903, February 15, 2008).

The Commission transmitted its determination in this investigation to the Secretary of Commerce on March 31, 2008. The views of the Commission are contained in USITC Publication 3988 (March 2008), entitled Persulfates from China: Investigation No. 731-TA-749 (Second Review).

By order of the Commission.
Issued: March 31, 2008.
Marilyn R. Abbott,
Secretary to the Commission.

[FR Doc. E8-7010 Filed 4-3-08; 8:45 am]

BILLING CODE 7020-02-P